DEPARTMENT OF HOUSING AND URBAN DEVELOPMENT

[Docket No. FR-4873-N-01]

Notice of Funding Availability for Housing Counseling Training

AGENCY: Office of the Assistant Secretary for Housing—Federal Housing Commissioner, HUD.

ACTION: Notice of funding availability.

Overview Information

A. Federal Agency Name: Department of Housing and Urban Development, Office of the Assistant Secretary for Housing—Federal Housing Commissioner.

B. Funding Opportunity Title: Housing Counseling Training.

C. Announcement Type: Initial Announcement.

D. Funding Opportunity Number: FR-4873-N-01; OMB Approval Number: 2502-0261.

E. Catalog of Federal Domestic Assistance (CFDA) Number: Housing Counseling Program 14.169.

F. Dates: The application is due on June 14, 2004.

Full Text of Announcement

I. Funding Opportunity Description

Program Purpose. Funds are available to provide, under cooperative agreements with HUD, a broad array of activities designed to improve and standardize the quality of counseling provided by housing counselors working for HUD-approved housing counseling agencies.

II. Award Information

A. Available Funds: This NOFA announces the availability of approximately $7.75 million, which includes up to $3,750,000 in Fiscal Year (FY) 2004 funds, $3,802,048 from FY03, and such additional carryover funds that may become available.

B. Match: No specific ratio is required.

C. Anticipated Awards: HUD's goal is to fund an organization, or a consortium of organizations, to deliver the full spectrum of activities eligible for funding under this NOFA. Should this not be possible, HUD reserves the right to make multiple awards under this NOFA.

D. Award Instrument: HUD expects to use a cooperative agreement, but reserves the right to use the award instrument it determines to be most appropriate. All awards will be made on a cost reimbursement basis in accordance with, and subject to, the requirements in OMB Circular A-87, Cost Principles for State, Local, and Indian Tribal Governments; or OMB Circular A-122, Cost Principles for Non-Profit Organizations, as applicable to your organization. These awards are also subject to the administrative requirements established in OMB Circular A-102, implemented at 24 CFR part 85 (Administrative Requirements for Grants and Cooperative Agreements to State, Local, and Federally Recognized Indian Tribal Governments); OMB Circular A-110, implemented at 24 CFR part 84 (Grants and Agreements with Institutions of Higher Education, Hospitals and Other Non-Profit Organizations); and OMB Circular A-133 (Audits of States, Local Governments, and Non-Profit Organizations), implemented at 24 CFR parts 84 and 85. If you receive an award, you must comply with and are required to ensure that any subrecipients also comply with the above requirements. OMB circulars can be found at http://www.whitehouse.gov/omb/circulars/index.html.

Awards made as cooperative agreements will entail significant HUD involvement including but not limited to the following items:

• Review and approval of proposed courses, including course materials;

• Review and approval of evaluation instruments and methodology for determining value of courses and impacts; and

• Review and approval of the geographic coverage of the training, as well as the type of training and number of courses to be provided.

1. Award Adjustments. HUD reserves the right to adjust funding levels for each applicant. Once applicants are selected for award, HUD will determine the total amount to be awarded to any grantee, based upon the scope and geographic coverage of services to be provided and funds available.

2. Award Period. Cooperative agreements will be for a period of up to thirty-six (36) months.

Applicants selected for award must receive prior HUD approval to incur costs prior to the date of the grant agreement. HUD will not approve pre-award costs incurred more than ninety (90) calendar days prior to the effective date of the grant agreement. All pre-award costs are incurred at the applicant's risk and HUD has no obligation to reimburse such costs.

III. Eligibility Information

A. Eligible Applicants

1. Eligible Applicants. Applicants must be public or private nonprofit organizations with at least two years of experience providing the specific services they are proposing to provide under this NOFA.

A consortium of organizations may apply for funding under this NOFA, but one organization must be designated as the primary applicant. Furthermore, applicants may utilize in-house staff, sub-grant recipients or consultants, and networks of local organizations with requisite experience and capacity.

B. Cost Sharing or Matching

No specific ratio is required.

C. Other

1. Eligible Activities. Applicants must propose to develop and implement a comprehensive and ongoing training program for housing counselors, which may be conducted on-site, through satellite broadcast, or through computer training software, on the full range of housing counseling services and practices. Consistent with Rating Factor 5 (Achieving Results and Program Evaluation), applicants must also identify program outputs and outcomes that will allow the selected grantee or grantees and HUD to measure actual achievements against anticipated achievements. Outputs and outcomes must be objectively quantifiable. Applicants must identify not only how many counselors they expect to train over the course of the grant, but how they will measure and validate the effectiveness of the training, for example, by developing and administering tests (pre-tests and post-tests), or other means to measure a counselor's competence in each area of training, both before and after training. The success of the grantee's performance would be measured, in large part, by the percentage of counselors who achieve a satisfactory test score or otherwise demonstrate a satisfactory level of competence in the area of training. A counselor may be permitted several opportunities within a certain period after receiving the training to demonstrate a satisfactory level of competence in an area of training (for example, through on-line testing). Applicants must also describe their proposed fee structure for the training to be offered, including providing for the maximum number of training scholarships. Scholarship eligibility may be based, in whole or in part, upon the attainment of a satisfactory level of competence. To be considered eligible for funding, an application must address a minimum of five of the training topics listed below. When at least five of the listed topics are addressed, applicants may propose additional topics. Training topics include the following:

a. General Housing Counseling. Teach counselors the principles and applications of housing counseling from the industry's and the counselor's point of view. Review the skills and tools needed to be an effective housing counselor. Provide overviews of the national picture, pre- and post-purchase counseling for homeowners, delinquency, and default counseling.

b. Credit Counseling for Prospective Homeowners. Train counselors in conducting results-oriented individual counseling sessions for prospective homebuyers, including triaging customers, developing corrective action plans and timelines for success, and facilitating progress as customers overcome obstacles and move toward mortgage-readiness. Train counselors regarding state-of-the-art software designed specifically for credit rebuilding, debt reduction, automated budgeting, and downpayment savings accumulation. Use sample customer cases to identify obstacles and simulate counseling sessions.

c. Matching Clients with Loan Products. Train counselors in industry practices, analysis of financials, risk elements, and general concepts affecting conventional and government mortgage loan decisions. Provide counselors with effective procedures and techniques that will translate into appropriate loans and satisfied housing counseling clients. Review case studies to illustrate the functional areas of the underwriting process, from the application to the loan sale.

d. Homebuyer Education Programs. Teach counselors how to deliver a comprehensive homebuyer education program to turn prospective homebuyers into satisfied homeowners. Teach counselors to use the best materials and methods to train homebuyers how to shop for a home, get a mortgage loan, improve their budget and credit profiles, and maintain their home and finances after purchase.

e. Section 8 Homeownership. Train counselors in how to effectively approach and partner with Public Housing Authorities (PHAs) in the implementation of a Section 8 Homeownership Program. Review the unique characteristics of the program and the voucher holders as they relate to the counseling component. Share effective and proven implementation strategies.

f. Helping Homeowners Avoid Delinquency and Predatory Lending. Teach counselors to conduct educational seminars and advise clients regarding how to avoid predatory lenders and common lending pitfalls. Give counselors the knowledge and tools to help unwary borrowers avoid inflated appraisals, unreasonably high interest rates, unaffordable repayment terms, and other conditions that can result in a loss of equity, increased debt, default, and foreclosure. Train counselors to help clients manage debt, avoid predatory lenders, and avoid mortgage default. Teach counselors how to read the warning signs of debt problems and how to recognize predatory lenders, as well as identify available resources to help keep homeowners out of financial trouble. Review state and federal regulations, including RESPA and the Truth in Lending Act.

g. Foreclosure Prevention. Train counselors on the protocol for counseling homeowners in financial distress. Address all aspects of default and delinquency, including reasons for default, ways to maximize income and reduce expenses, calculating delinquencies, understanding the players in the mortgage marketplace, loss-mitigation options for FHA-insured and other loans, information about foreclosure laws and timelines, tips on effectively intervening with lenders and servicers, managing multiple mortgages or liens, and the pros and cons of refinancing.

h. Home Equity Conversion Mortgages (HECM). Train counselors about reverse mortgages for older homeowners. Teach them to understand products and programs, analyze plans and compare their costs and benefits, and identify alternatives. Also, review relevant counseling skills and ethics.

i. Home Maintenance and Financial Management for New Homeowners. Train counselors in how to advise individuals and conduct workshops aimed at ensuring the long-term success of new homebuyers, including home maintenance and repair, financial management, insurance, and record keeping.

j. Web-based Client Management Systems. Train counselors in how to effectively utilize web-based housing counseling client management systems.

k. Counseling Individuals and Families Who are Homeless or at Risk of Becoming Homeless. Train counselors about the various social services available to which they should be referring homeless and potentially homeless families and individuals. Provide information on federal, state, and local homeless programs and how clients can access these programs. Share strategies on how to partner with local public service providers to ensure that clients receive attention and assistance quickly and efficiently. Review the unique characteristics of the homeless population to help counselors understand the types of financial, physical, and social problems facing the families and individuals who seek their assistance.

2. Threshold Requirements. Applications will be declared ineligible for any of the following reasons:

a. DUNS Number. HUD will not rate and rank applications that do not include a valid Data Universal Numbering System (DUNS) number administered by Dun & Bradstreet.

b. Compliance with Fair Housing and Civil Rights Laws. An applicant, or any of the organizations that partner with an applicant for the provision of services in conjunction with this NOFA, must meet the following Civil Rights Threshold Requirements:

(1) With the exception of federally-recognized Indian tribes and their instrumentalities, all applicants and their subrecipients must comply with all Fair Housing and Civil Rights laws, statutes, regulations, and Executive Orders as enumerated in 24 CFR 5.105(a), as applicable. A federally-recognized Indian tribe must comply with the non-discrimination provisions enumerated at 24 CFR 1000.12, as applicable.

(2) If an applicant has been charged with a systemic violation of the Fair Housing Act alleging ongoing discrimination, is a defendant in a Fair Housing Act lawsuit filed by the Department of Justice alleging an ongoing pattern or practice of discrimination, or has received a letter of findings identifying ongoing or systemic noncompliance under Title VI of the Civil Rights Act, Section 504 of the Rehabilitation Act, or Section 109 of the Housing and Community Development Act, and if the charge, lawsuit, or letter of findings has not been resolved to HUD's satisfaction before the application deadline stated in this NOFA, the applicant may not apply for assistance under this NOFA. HUD will not rate and rank an application. HUD's decision regarding whether a charge, lawsuit, or a letter of findings has been satisfactorily resolved will be based upon whether appropriate actions have been taken to address allegations of ongoing discrimination in the policies or practices involved in the charge, lawsuit, or letter of findings. Examples of actions that may be taken prior to the application deadline to resolve the charge, lawsuit, or letter of findings, include but are not limited to:

(a) Voluntary compliance agreement signed by all parties in response to the letter of findings;

(b) HUD-approved conciliation agreement signed by all parties;

(c) Consent order or consent decree; or

(d) Judicial ruling or a HUD Administrative Law Judge's decision that exonerates the respondent of any allegation of discrimination.

c. HUD will not make an award if the applicant or the applicant's organization has been presently debarred, suspended, proposed for debarment, declared ineligible, or voluntarily excluded from covered transactions from any federal department or agency.

d. Delinquent Federal Debt. Consistent with the purpose and intent of 31 U.S.C. 3720B and 28 U.S.C. 3201(e), no award of federal funds will be made to an applicant that has an outstanding delinquent federal debt unless: (1) The delinquent account is paid in full; (2) a negotiated repayment schedule is established and at least one payment is received; or (3) other arrangements satisfactory to HUD are made prior to the deadline submission date.

e. False Statements. A false statement in an application is grounds for denial or termination of an award and grounds for possible punishment as provided in 18 U.S.C. 1001.

f. Additional requirements: Agencies selected as grantees or sub-grantees must also comply with the following requirements:

(1) Salary Limitation for Consultants. Funds may not be used to pay or to provide reimbursement for payment of the salary of a consultant at more than the daily equivalent rate paid for Level IV of the Executive Schedule, unless specifically authorized by law.

(2) Accessibility. All grant recipients and subrecipients must make training facilities and services reasonably accessible to persons with a wide range of disabilities or provide other means of accommodation for the disability. In addition, counseling training must train counselors in the accessibility requirements applicable to eligible counseling activities and accessibility requirements under the Fair Housing Act, including requirements for reasonable modification.

(3) Reports. All grant recipients will be required to report to HUD on a quarterly basis, unless otherwise specified in the cooperative agreement.

(4) Code of Conduct. Entities that are subject to 24 CFR parts 84 and 85 (including most nonprofit organizations and state, local, and tribal governments or government agencies or instrumentalities that receive federal awards of financial assistance) are required to develop and maintain a written code of conduct (See Sections 84.42 and 85.36(b)(3)). The code of conduct must prohibit real and apparent conflicts of interest that may arise among employees, officers, or agents; prohibit the solicitation and acceptance of gifts or gratuities by your officers, employees and agents for their personal benefit in excess of minimal value; and outline administrative and disciplinary actions available to remedy violations of such standards. Self-recusal will not eliminate a potential or apparent conflict of interest. Prior to entering into a grant agreement with HUD, the applicant will be required to submit a copy of its code of conduct and describe the methods it will use to ensure that all officers, employees, and agents of the organization are aware of the code of conduct.

(5) Financial Management Systems. Applicants selected for funding must provide documentation demonstrating that the applicant's financial management systems satisfy the requirements in the applicable regulations at 24 CFR 84.21(b) and 85.20. Consistent with the requirements of the Single Audit Act Amendments of 1996 (31 U.S.C. 7501-07), if the applicant expended $300,000 or more in federal awards in its most recent fiscal year, such documentation must include a certification from or most recent audit by the applicant's independent public accountant that the applicant maintains internal controls over federal awards, complies with applicable laws, regulations, and contract or grant provisions, and prepares appropriate financial statements. The applicant will have at least 30 calendar days to respond to this requirement. If an applicant does not respond within the prescribed time or responds with insufficient documentation, then HUD may determine that the applicant has not met this requirement and may withdraw the grant offer.

(6) Indirect Cost Rate. Applicants must also submit documentation establishing the organization's indirect cost rate. Such documentation may consist of a certification from the most recent audit or indirect cost rate agreement by the cognizant federal agency or an independent public accountant. If the organization does not have an established indirect cost rate, the organization will be required to develop and submit an indirect cost proposal to HUD or the cognizant federal agency as applicable, for determination of an indirect cost rate that will govern an award. Applicants that do not have a previously established indirect cost rate with a federal agency shall submit an initial indirect cost rate proposal immediately after the applicant is advised that it will be offered a grant or, in any event, not later than three months after the effective date of the grant. OMB Circular A-122 sets forth the requirements to determine allowable direct and indirect costs and the preparation of indirect cost proposals. The circular can be found at http://www.whitehouse.gov/omb.

(7) Applicants are subject to a name check review process. Name checks are intended to reveal matters that significantly reflect on the applicant's management and financial integrity or if any key individuals have been convicted or are presently facing criminal charges. If the name check reveals significant adverse information that reflects on the business integrity or responsibility of the recipient or any key individual, HUD reserves the right to: (a) Deny funding or consider suspension/termination of an award immediately for cause; (b) require the removal of any key individual from association with management or implementation of the award; and (c) make appropriate provisions or revisions with respect to the method of payment or financial reporting requirements.

(8) Pre-Award Accounting System Survey. HUD may arrange for a pre-award accounting system survey of the applicant's financial management system in cases where the recommended applicant has no prior federal support, HUD program officials have reason to question whether the applicant's financial management system meets federal financial management standards, or the applicant is considered a high risk based upon past performance or financial management findings. HUD will not make an award to any applicant that does not have a financial management system that meets federal standards.

(9) Participation in HUD-Sponsored Program Evaluation. As a condition of the receipt of financial assistance under this NOFA, all successful applicants will be required to cooperate with all HUD staff or contractors performing HUD-funded research and evaluation studies.

(10) Ensuring the Participation of Small Businesses, Small Disadvantaged Businesses, and Women-Owned Businesses. HUD is committed to ensuring that small businesses, small disadvantaged businesses, and women-owned businesses participate fully in HUD's direct contracting and in contracting opportunities generated by HUD financial assistance. State, local and tribal governments are required by 24 CFR 85.36(e) and non-profit recipients of assistance, including subrecipients, are required by 24 CFR 84.44(b) to take all necessary affirmative steps in contracting for the purchase of goods or services to assure that minority firms, women's business enterprises, and labor surplus area firms are used whenever possible or as established by HUD in the award agreement.

(11) Executive Order 13166, Improving Access to Persons With Limited English Proficiency (LEP). Executive Order 13166 seeks to improve access to persons with limited English proficiency by providing materials and information in languages other than English. Applicants obtaining an award from HUD must seek to improve access to program benefits and information for persons with limited English proficiency.

(12) Executive Order 13279, Equal Protection of the Laws for Faith-Based and Community Organizations. HUD is committed to full implementation of Executive Order 13279 in the operation of its programs.

(13) The Americans with Disabilities Act of 1990 (42 U.S.C. 1201 et seq.), the Age Discrimination Act of 1974 (42 U.S.C. 6101 et seq.), and Title IX of the Education Amendments Act of 1972 (20 U.S.C. 1681 et seq.).

(14) Affirmatively Furthering Fair Housing. Under Section 808(e)(5) of the Fair Housing Act, HUD is obliged to affirmatively further fair housing. HUD requires the same of its funding recipients. Successful applicants will have a duty to affirmatively further fair housing opportunities for classes protected under the Fair Housing Act. Protected classes include race, color, national origin, religion, sex, disability, and familial status. An application must include specific steps to:

(a) Overcome the effects of impediments to fair housing choice that were identified in the jurisdiction's Analysis of Impediments (AI) to Fair Housing Choice;

(b) Remedy discrimination in housing; or

(c) Promote fair housing rights and fair housing choice.

Further, the applicant has a duty to carry out the specific activities provided in the responses to the individual rating factors that address affirmatively furthering fair housing. These requirements apply to all HUD programs announced via a NOFA.

IV. Application and Submission Information

A. Address To Request Application Package

Electronic Submission. Applications must be submitted through Grants.gov at http://www.grants.gov. Prepare all of the required files in accordance with the instructions in this announcement prior to starting the transmission process. If you encounter problems contact the Grants.gov Customer Support Center at 800-519-4726 or at support@grants.gov. The customer support center is open from 7 a.m. to 9 p.m. eastern time. Only applications submitted through Grants.gov will be considered for award.

1. Electronic Signature. Applications submitted through Grants.gov constitute submission as electronically signed applications.

2. Grants.gov Registration. It is recommended that applicants begin completing the six “Get Started” steps no later than thirty days prior to the application due date. The “Get Started” section of the site, found at http://www.grants.gov/GetStarted, provides all information needed to understand and execute the process. Information required to “Get Started” may also be found in Section IV.F. of this NOFA.

3. Copies of the application package and related instructions for this NOFA may be downloaded from the grants.gov Web site: http://www.grants.gov/FindGrantOpportunities. To find this opportunity, applicants must enter either the funding opportunity number, FR 4873-N-01, or the CFDA Number, 14.169.

B. Content and Form of Application Submission

1. Application Submission. Applications for this NOFA must be submitted electronically through the Grants.gov web portal. Once the application package is downloaded and completed, the “submit” button will be activated to allow the application to be submitted electronically through the Grants.gov portal. The applicant will be notified by e-mail that the application was successfully submitted through the portal.

2. Proof of Timely Submission. The Grants.gov portal will time and date stamp all applications when they are successfully transmitted to Grants.gov. The Grants.gov time and date stamp will constitute proof of timely submission of an application. The applicant will receive an e-mail notification of the time and date stamp and the Grants.gov tracking number. Applicants may not submit portions of an application through the Grants.gov portal; however, a complete, revised application may be submitted prior to the deadline date. In the event that two or more applications are received from the same applicant with the same project title, the application with the latest transmission time stamp prior to the closing due date and time will be considered for review.

3. Use the checklist below to organize the application. Unless indicated below, all applicants must submit the following:

a. DUNS number. Block 5 on Form SF-424 should be used to enter the DUNS number. See Section IV.F.1. for more information about DUNS numbers.

b. Forms. The standard forms, certifications, and assurances are listed in Appendix A of this NOFA (collectively, referred to as the “standard forms”). All of the standard forms required for this NOFA are available on the Grant.gov Web site. (Please note that forms may vary slightly in appearance on the Grants.gov Web site.) Additional information may be attached to the Project Narrative Attachment form and the Other Attachments form.

c. Nonprofit Status. Each applicant is required to submit, for itself and for any organization with which it is partnering for the purpose of this NOFA, a legible copy of the document that supports the applicant's claim to be a nonprofit organization (for example, a 501(c) letter issued by the IRS). The documentation must contain the official name, address, and telephone number of the legal authority that granted the nonprofit status. Branches or affiliates of the applicant that are part of the proposed work plan must also be nonprofit entities. These documents should be scanned and submitted electronically to HUD and attached to the Other Attachments form, which is part of the Grants.gov package. Applicants with problems scanning documents should call the contact named under agency contacts for advice and guidance related to submission of these documents to meet the established deadline date and time requirements.

d. Narrative Statements. Provide narrative statements addressing the Rating Factors in section V below. Responses to the rating factors should provide HUD with detailed quantitative and qualitative information and relevant examples regarding the housing counseling training and other work of the organization that is related to the proposed activities. These narrative statements will be the basis for evaluating the application. Applicants will submit these narrative statements in the Grants.gov application package for this NOFA under the Project Narrative Attachment form. Please note that the Project Narrative Attachment form can contain multiple narrative attachments required to be submitted as part of your application submission for this NOFA. The Other Attachments form also allows applicants to add files, including scanned documents, as needed in accordance with the application checklist contained in this NOFA.

e. Prohibition Against Lobbying Activities. Applicants are subject to the provisions of Section 319 of Public Law 101-121 (approved October 23, 1989) (31 U.S.C. 1352) (the Byrd Amendment), which prohibits recipients of federal contracts, grants, or loans from using appropriated funds for lobbying the executive or legislative branches of the federal government in connection with a specific contract, grant, or loan. Applicants are required to certify, using the certification found at Appendix A to 24 CFR part 87, that applicants have not and will not use appropriated funds for any prohibited lobbying activity. In addition, applicants must disclose, using Standard Form LLL, Disclosure of Lobbying Activities, any funds other than federally appropriated funds that have been or will be used to influence federal employees, members of Congress, or congressional staff regarding specific grants or contracts. Federally recognized Indian tribes and tribally designated housing entities (TDHEs) established by federally recognized Indian tribes as a result of the exercise of a tribe's sovereign power are excluded from coverage of the Byrd Amendment, but Indian tribes and TDHEs established under only state law must comply with this requirement.

C. Submission Dates and Time

Completed applications must be submitted on or before 8 p.m. eastern time, June 14, 2004.

D. Intergovernmental Review

Executive Order 12372, Intergovernmental Review of Federal Programs. Executive Order 13272 was issued to foster intergovernmental partnership and strengthen federalism by relying on state and local processes for the coordination and review of federal financial assistance and direct federal development. HUD implementing regulations are published in 24 CFR part 52. The order allows each state to designate an entity to perform a state review function. The official listing of State Points of Contact (SPOCs) for this review process can be found at http://www.whitehouse.gov/omb/grants/spoc.html. States not listed on the Web site have chosen not to participate in the intergovernmental review process and, therefore, do not have a SPOC. If a state has a SPOC, an applicant from that state should contact the SPOC to see if the SPOC is interested in reviewing the application prior to submission to HUD.

E. Funding Restrictions

Ineligible Applicants. HUD will not consider an application from an ineligible applicant: See Section III.A. for information on applicants eligible for funding.

F. Other Submission Requirements

1. DUNS Number, Registration with Central Contractor Registry (CCR) and Registration with a Credential Provider. For requirements of who has to submit a DUNS number, please see the interim rule published on March 26, 2004 (69 FR 15671). Additional information about HUD's DUNS requirement is available from HUD's grants Web site: http://www.hud.gov/grants/index.cfm. All applicants for federal grants or cooperative agreements must provide a Dun and Bradstreet (D&B) Data Universal Numbering System (DUNS) number when applying on or after October 1, 2003. Beginning October 31, 2003, applicants applying online for funding assistance also need to register with the Federal Central Contractor Registry and register with a Credential Provider. The Grants.gov Web site has online instructions for all registration requirements. Applicants are urged to read the information available on the Grants.gov Web site, at http://grants.gov/GetStarted. Please allow up to two weeks to complete this registration process.

V. Application Review Information

A. Criteria

Applications will be evaluated competitively according to the Factors for Award described below, and ranked against all other applicants. All applications will be scored and ranked in HUD Headquarters.

1. Factors for Award Used To Rate and Rank Applications

a. The factors for award, and maximum points for each factor, are outlined below. These factors will be used to evaluate applications. The maximum score is 100 for all applicants.

b. HUD may rely on other information, such as performance reports, financial status information, monitoring reports, audit reports and other information available to HUD in making score determinations under any Rating Factor.

c. All responses to the factors for award, submitted as narrative statements should be submitted under the Project Narrative Attachment form found on the Grants.gov Web site for this funding opportunity. Applicants should clearly label each narrative with the Factor Title and number related to the response.

d. Where a factor for award requests submission of a standard form, the standard form can be found in the Grants.gov electronic application package.

2. Rating Factor 1: Capacity of the Applicant and Relevant Organizational Staff (30 Points)

HUD uses responses to this rating factor to evaluate the readiness and ability of an applicant to begin the proposed work program immediately, as well as the potential for an applicant to cost-effectively and successfully implement the proposed activities indicated under Rating Factor 3.

a. Relevant Staff (10 points). In rating this section, HUD will consider the degree to which the applicant and, if applicable, partnering organizations, have sufficient personnel with the relevant knowledge and experience to implement the proposed activities in a timely and effective fashion. Specifically, scoring will be based on the number of years of relevant and recent housing counseling training, housing counseling material production, and other related experience of program managers and staff.

Submit the names and titles of employees, including subcontractors and consultants, who would perform the activities proposed in Rating Factor 3. Clerical staff should not be listed. Describe each employee's, subcontractor's, or consultant's relevant professional background and experience. Experience is relevant if it corresponds directly to projects of a similar scale and purpose. Provide the number of years of experience for each position listed, and indicate when each position was held. Individual descriptions should be limited to one page. List recent and relevant training received.

b. Experience (15 points). Applicants should carefully document recent experience, and the experience of organizations with which it is partnering, in providing the eligible activities listed in Section III of this NOFA that it is proposing to offer through this NOFA. Indicate the types and complexity of the services provided and the outcomes for counselors as a result of the training and other services. Describe the level of effort and time required to provide the services and to meet the needs of the counselors.

Indicate the number of counselors that have participated in your training program or otherwise benefited from the relevant services you provided.

c. Performance/Grant Requirements (5 points). In scoring this section, HUD will evaluate how well the applicant has satisfied the requirements, including reporting, on HUD grants received. If an applicant has not received a HUD grant, the applicant should base its response on activities and requirements under other sources of funding, such as other federal, state, or local grant awards.

An applicant should characterize performance with regard to the timeliness and completeness with which the applicant satisfied reporting requirements (such as Form HUD 9902.)

Also, indicate whether or not an applicant fully expended grant awards during the specified grant periods. If not fully expended, provide an explanation as to the reason why the funds were not fully expended on time and the steps taken to ensure that future funding will be expended in a timely manner.

3. Rating Factor 2: Need/Extent of the Problem (5 Points)

This factor addresses the extent to which there is a need to fund proposed activities described in response to Rating Factor 3.

Describe and document the national need, such as the number of housing counselors and areas of housing counseling training, the application intends to address with the services proposed in Rating Factor 3. Responses will be evaluated based on how well they demonstrate a grasp of the elements of the problems this NOFA is intended to address. Include applicable statistics and analyses, if available, contained in data sources that are sound and reliable.

4. Rating Factor 3: Soundness of Approach/Scope of Housing Counseling Services (35 Points)

This factor addresses the quality and effectiveness of the proposed work plan. In rating this factor, HUD will evaluate the extent to which the applicant presents a detailed and sound approach for providing the proposed services. HUD will also evaluate the extent to which the applicant demonstrates the cost-effectiveness of its activities, and convincingly explains how the proposed activities will yield long-term results.

a. Work Plan (20 points). Applicants should provide a work plan that lists the major objectives and activities it intends to undertake, and how it plans to provide those services. Include administrative and project tasks.

Applicants should indicate which of the eligible activities it proposes to provide or whether certain services will be provided by organizations with which an applicant has partnered. An applicant must propose to provide at least five of the eligible services listed in Section III. However, an ideal applicant eligible to receive the maximum number of points will provide, either directly or through partnerships, the full spectrum of eligible activities, and the proposed program will be national in scope. Explain how proposed activities are linked.

An applicant should indicate whether its proposed training program is national in scope. If it is regional in scope, an applicant should indicate the geographic area it proposes to cover. Applicants must propose to provide training covering at least five housing counseling topics listed in Section III, although a comprehensive curriculum is preferred and is eligible to receive the maximum number of points. If an applicant is proposing to provide training for a limited number of topics, the applicant must indicate which of the housing counseling topics listed in Section III of this NOFA, as well as any additional topics, it is proposing to provide.

All proposals to provide training must include a description of the methodology for measuring the success of the training program. All proposals must also include a scholarship element, detailing the full or partial costs to be covered, including travel, hotel, and tuition expenses. Indicate the number of the scholarships you estimate can be offered, and describe plans for determining who will and, if applicable, will not receive scholarships. Demonstrating a satisfactory level of competence in an area of training may be a basis, in whole or in part, for determining scholarship eligibility.

b. Proposed Budget (10 points). For the work plan proposed above, indicate the HUD grant size you are proposing, and submit a proposed budget based on this figure, utilizing form SF-424-A. If applicable, the budget should highlight portions being proposed as sub-grants to partnering organizations. As the grant period is three years, submit a single budget that includes the total costs over the entire project period. Make a case for why the proposed budget is cost effective in achieving proposed results. Responses will be evaluated based on the quality, thoroughness, and reasonableness of the cost estimates provided.

c. Rationale for Proposed Activities and Methods (5 points). Provide a rationale for how the proposed activities and methods most effectively address the national need described in Rating Factor 2, and explain how your proposed activities will yield long-term results.

5. Rating Factor 4: Leveraging Resources (5 Points)

Although HUD funding through this NOFA may fully fund an organization's proposed program, applicants are encouraged to secure the use of other resources to supplement the HUD grant.

In scoring this factor, applicants will be evaluated based on their ability to obtain additional resources for their proposed training and other related eligible activities, including direct financial assistance and in-kind contributions, which may include services, equipment, office space, labor, etc. Resources may be provided by governmental entities, public or private nonprofit organizations, for-profit private organizations, or other entities committed to providing the applicant assistance.

Additionally, resources provided by the applicant, recorded as ‘applicant match’ and ‘program income’ on form SF-424, will count as leveraged resources.

Points for this factor will be awarded based on the ratio of requested HUD funds to total budget for the proposed activities.

Percentage | Points
1-35 | 5
36-59 | 4
60-79 | 3
80-89 | 2
90-99 | 1

6. Rating Factor 5: Achieving Results and Program Evaluation (25 Points)

Outcomes are benefits accruing to recipients of the service to be offered (e.g., increase in the number of counselors demonstrating proficiency after training), and substantive changes to the status quo ante as a result of an applicant's activities (e.g., production of validated instructional technologies and validation methodologies). Outputs are units of service or activity (e.g., instructional units developed, number of counselors trained, number tested). Outputs and outcomes must be objectively quantifiable. The purpose of this factor is for the applicant to identify program outputs and outcomes that will allow an applicant and HUD to measure actual achievements against anticipated achievements. For this NOFA, HUD will give particular weight to an applicant's ability to demonstrate change in counselors' knowledge and skills as a result of the training offered. Applicants should therefore emphasize a rigorous and objective testing protocol as part of their performance evaluation strategy.

Submission Requirements for Factor 5. Applicants must submit an effective, quantifiable, and outcome-oriented evaluation plan. The plan must be in narrative form and must also be presented utilizing the instructions document (Logic Model form HUD-96010) found in Appendix B of this NOFA for measuring performance and determining that output and outcome goals have been met. An applicant must submit a program evaluation plan that demonstrates how it will measure its own program performance. The evaluation plan should identify what an applicant is going to measure, how an applicant is going to measure it, and the steps in place to make adjustments to its work plan if performance targets are not met within established timeframes. Specifically, the plan must identify:

—Outputs. Outputs are the direct products of an applicant's activities that lead to the ultimate achievement of outcomes. Examples of outputs are the number of training sessions to be provided and the number of counselors to be trained. Identify interim and full grant term projected outputs and timeframes for accomplishing these goals. The plan must show how an applicant will measure actual accomplishments against anticipated achievements.

—Work Plan Adjustments. Describe steps in place to make adjustments to the work plan if outputs are not met within established timeframes or if a grantee begins to fall short of established outputs or timeframes.

—Outcomes. Outcomes are benefits accruing to the counselors as a result of participation in an applicant's program. Outcomes are performance indicators an applicant expects to achieve or goals an applicant hopes to meet over the term of its proposed grant. An example of an outcome is the percentage of counselors who, following training, can demonstrate competence in the areas of training. Another example of an outcome is an instructional module, which when administered to counselors, produces a measurable increase in counselors' knowledge or skills. An applicant should identify how it will determine that a counselor has demonstrated competence following training, and provide projected outcomes of the number of counselors trained and the number of counselors demonstrating competence following training for the full grant term, as well as timeframes for accomplishing these goals. The plan must show how an applicant will measure actual accomplishments against anticipated achievements.

—Information Collection. An applicant should describe its strategy for collecting outcome information.

B. Review and Selection Process

1. General. HUD will review each application to determine whether it meets the threshold requirements found in Section IV and the eligibility requirements found in Section III of this NOFA. Only applicants that meet all of the eligibility and threshold requirements will be rated and ranked.

2. Rating Panels. To review and rate applications, HUD may establish panels which may include persons not currently employed by HUD. HUD may include these non-HUD employees to obtain certain expertise and outside points of view, including views from other federal agencies.

3. Corrections To Deficient Applications. After the application due date, HUD may not, consistent with its regulations in 24 CFR part 4, subpart B, consider any unsolicited information the applicant may want to provide. HUD may contact an applicant to clarify an item in the application or to correct technical deficiencies. HUD may not seek clarification of items or responses that improve the substantive quality of a response to any rating factor. In order not to exclude unreasonably applications from being rated and ranked, HUD may contact applicants to ensure proper completion of the application and will do so on a uniform basis for all applicants. Examples of curable (correctable) technical deficiencies include failure to submit the proper certifications, failure to submit an application that contains an original signature by an authorized official, and failure to submit the requested number of copies. In each case, HUD will notify you in writing by describing the clarification or technical deficiency. HUD will notify applicants by facsimile or by USPS, return receipt requested. Clarifications or corrections of technical deficiencies in accordance with the information provided by HUD must be submitted within 14 calendar days of the date of receipt of the HUD notification. (If the due date falls on a Saturday, Sunday, or federal holiday, your correction must be received by HUD on the next day that is not a Saturday, Sunday, or federal holiday.) If the deficiency is not corrected within this time period, HUD will reject the application as incomplete and it will not be considered for funding.

4. Rating and Ranking. a. Applications that earn a score of 75 points or more will be considered eligible for funding.

b. HUD intends to provide funding for as full a range of the eligible activities listed in Section III of this NOFA. To achieve this objective, HUD reserves the right to make one award to the highest-ranking applicant that can satisfactorily provide, either directly or though partners, the full spectrum of eligible activities under this NOFA. Should multiple organizations apply that can satisfactorily provide the full spectrum of eligible activities, the entire amount available under this NOFA will be awarded to the highest scorer among organizations that fit this description.

c. In the event that no such comprehensive applicant materializes, HUD may make as many grants in rank order as it considers appropriate to facilitate the provision of the maximum number of eligible activities.

d. If funds remain after funding the highest-ranking applications, HUD may fund all or part of the next highest-ranking application. If an applicant turns down an award offer, HUD may make an offer of funding to the next highest-ranking application. If funds remain after all selections have been made, remaining funds may be available for other competitions for each program where there is a balance of funds.

e. In the event HUD commits an error that, when corrected, would result in selection of an otherwise eligible applicant during the funding round of this NOFA, HUD may select that applicant when sufficient funds become available.

5. Award Size. Award size for a singular activity or range of activities will depend upon the cost estimates. Proposed grant size will correspond to the number of applications selected for award and the scope of the services provided. HUD reserves the right to approach the applicant regarding an award covering only a portion of the proposed activities. All grantees will receive the lower of either the award amount determined by HUD or the amount actually requested by the applicant.

6. Award Adjustments. HUD reserves the right to adjust funding levels for each applicant. Once applicants are selected for award, HUD will determine the total amount to be awarded to any grantee, based upon the scope and geographic coverage of services to be provided and funds available.

7. Adjustments to Funding. HUD reserves the right to fund less than the full amount requested in an application to ensure the fair distribution of funds and ensure that the purposes or requirements of this program are met.

8. Negotiation. After all eligible applications have been rated and ranked, and selections have been made, HUD requires that all applicants conditionally selected for funding participate in negotiations to determine the specific terms of the cooperative agreement and budget. Negotiations may result in the following adjustments:

a. Scope of Services Adjustments. HUD reserves the right to require an applicant, as a condition of funding, to provide selected services contained in its proposal. For example, HUD may provide funds for the areas in which grantees have the greatest skill and capability, but not fund the applicant for the full scope of proposed services. HUD may also require selected applicants, as a condition of funding, to provide coverage on a more limited or more extensive geographic scope than originally proposed.

b. HUD will not fund any portion of an application that: Is not eligible for funding under this program's statutory or regulatory requirements; does not meet the requirements of this NOFA; or may be duplicative of other funded programs or activities from prior year awards or other selected applicants. Only the eligible portions of an application (including non-duplicative portions) may be funded.

c. Establishment of performance standards and measures. HUD intends to measure and address the performance and compliance actions of funding recipients in accordance with the applicable standards and sanctions established for this program.

VI. Award Administration Information

A. Award Notices

After all eligible applications have been rated and ranked and selections have been made, HUD will notify applicants regarding the disposition of their application.

B. Administrative and National Policy Requirements

1. Environmental Requirements. This NOFA does not direct, provide for assistance or loan and mortgage insurance for, or otherwise govern or regulate, real property acquisition, disposition, leasing, rehabilitation, alteration, demolition, or new construction, or establish, revise, or provide for standards for construction or construction materials, manufactured housing, or occupancy. Accordingly, under 24 CFR 50.19(c)(1), this NOFA is categorically excluded from environmental review under the National Environmental Policy Act of 1969 (42 U.S.C. 4321).

2. Procurement of Recovered Materials. State agencies and agencies of a political subdivision of a state, including PHAs, that are using assistance under this NOFA for procurement and any person contracting with such an agency with respect to work performed under an assisted contract, must comply with the requirements of Section 6002 of the Solid Waste Disposal Act, as amended by the Resource Conservation and Recovery Act. In accordance with Section 6002, these agencies and persons must procure items designated in guidelines of the Environmental Protection Agency at 40 CFR part 247 that contain the highest percentage of recovered materials practicable, consistent with maintaining a satisfactory level of competition, where the purchase price of the item exceeds $10,000 or the cost of the quantity acquired in the preceding fiscal year exceeded $10,000; must procure solid waste management services in a manner that maximizes energy and resource recovery; and must have established an affirmative procurement program for procurement of recovered materials identified in the EPA guidelines.

3. Accessible Technology. The Rehabilitation Act Amendments of 1998 (the Act) applies to the electronic information technology (EIT) used by HUD for transmitting, receiving, using, or storing information to carry out the responsibilities of any federal funds awarded. The Act's coverage includes, but is not limited to, computers (hardware, software, word-processing, email, and web pages), facsimile machines, copiers, and telephones. Consistent with the principles of the Act, HUD requires the same of its funding recipients. If you are a successful applicant, you will be required, when developing, procuring, maintaining, or using EIT to ensure that the EIT allows employees with disabilities and members of the public with disabilities to have access to and use of information and data that is comparable to the access and use of information and data by employees and members of the public who do not have disabilities. If these standards impose a hardship on a funding recipient, a recipient may provide an alternative means to allow the individual to use the information and data. However, no recipient will be required to provide information services to a person with disabilities at any location other than the location at which the information services is generally provided.

C. Reporting

Grant recipients will be required to submit quarterly progress reports, comparing actual accomplishments with the goals and objectives established for the period, explaining why established goals were not met, and highlighting any problems, delays, or adverse conditions that materially impaired the ability to meet the objectives of the awards.

VII. Agency Contact

For further information about this NOFA or application requirements, applicants should contact HUD Headquarters, Program Support Division, at (202) 708-0317 (this is not a toll-free number). Persons with hearing or speech impairments may access any of these numbers via (TTY) by calling the toll-free Federal Information Relay Service at (800) 877-8339. For technical help with the electronic submission procedure, applicants may email support@grants.gov or call (800) 518-4726 ((800) 518-GRANTS). The Grants.gov Customer Support Center is open from 7 a.m. to 9 p.m. eastern time.

VIII. Other Information

A. Federalism, Executive Order 13132. This notice does not have federalism implications and does not impose substantial direct compliance costs on state and local governments or preempt state law within the meaning of Executive Order 13132 (entitled “Federalism”).

B. Section 102 of the HUD Reform Act, Documentation and Public Access Requirements. Section 102 of the Department of Housing and Urban Development Reform Act of 1989 (42 U.S.C. 3545) (HUD Reform Act) and the regulations codified at 24 CFR part 4, subpart A, contain a number of provisions that are designed to ensure greater accountability and integrity in the provision of certain types of assistance administered by HUD. On January 14, 1992, HUD published a notice that also provides information on the implementation of Section 102 (57 FR 1942). The documentation, public access, and disclosure requirements of Section 102 apply to assistance awarded under this NOFA as follows:

1. Documentation. HUD will ensure that documentation and other information regarding each application submitted pursuant to this NOFA are sufficient to indicate the basis upon which assistance was provided or denied. This material, including any letters of support, will be made available for public inspection for a five-year period beginning not less than 30 days after the award of the assistance. Material will be made available in accordance with the Freedom of Information Act (5 U.S.C. 552) and HUD's implementing regulations (24 CFR part 15).

2. Debriefing. For a period of at least 120 days, beginning 30 days after the awards for assistance are publicly announced, HUD will provide a debriefing to a requesting applicant a debriefing related to its application. All debriefing requests must be made in writing or by email by the authorized official whose signature appears on the SF-424 or his or her successor in office, and submitted to the person or organization identified as the Contact under the section entitled “Agency Contact.” Information provided during a debriefing will include, at a minimum, the final score the applicant received for each rating factor, final evaluator comments for each rating factor, and the final assessment indicating the basis upon which assistance was provided or denied.

3. Disclosures. HUD will make available to the public for five years all applicant disclosure reports (HUD Form 2880) submitted in connection with this NOFA. Update reports (also reported on HUD Form 2880) will be made available along with the applicant disclosure reports, but in no case for a period of less than three years. All reports, both applicant disclosures and updates, will be made available in accordance with the Freedom of Information Act (5 U.S.C. 552) and HUD's implementing regulations (24 CFR part 15).

4. Publication of Recipients of HUD Funding. HUD will publish a notice in the Federal Register to notify the public of all decisions made by the Department to provide: a. Assistance subject to Section 102(a) of the HUD Reform Act; and

b. Assistance provided through grants or cooperative agreements on a discretionary (non-formula, non-demand) basis, but that is not provided on the basis of a competition.

C. Section 103 of the HUD Reform Act. HUD's regulations implementing Section 103 of the Department of Housing and Urban Development Reform Act of 1989 (42 U.S.C. 3537a), codified at 24 CFR part 4, subpart B, apply to this funding competition. The regulations continue to apply until the announcement of the selection of successful applicants. HUD employees involved in the review of applications and in the making of funding decisions are limited by the regulations in providing advance information to any person (other than an authorized employee of HUD) concerning funding decisions or from otherwise giving any applicant an unfair competitive advantage. Persons who apply for assistance in this competition should confine their inquiries to the subject areas permitted under 24 CFR part 4.

Applicants or employees who have ethics-related questions should contact the HUD Ethics Law Division at (202) 708-3815. (This is not a toll-free number.) HUD employees who have specific program questions should contact the appropriate field office counsel or Headquarters counsel for the program to which the question pertains.

D. Paperwork Reduction Act Statement. The information collection requirements contained in this NOFA have been approved by the Office of Management and Budget (OMB), under the Paperwork Reduction Act of 1995 (44 U.S.C. 3501-3520) and assigned OMB Control Number 2502-0261. An agency may not conduct or sponsor, and a person is not required to respond to, a collection of information unless the collection displays a valid control number.

E. Authority. HUD's Housing Counseling Program, and the training of this NOFA are authorized by Section 106 of the Housing and Urban Development Act of 1968 (12 U.S.C. 1701x), and is generally governed by HUD Handbook 7610.1, REV-4, CHG-1, dated October 27, 1997.

Dated: April 22, 2004.
Sean Cassidy,
General Deputy Assistant Secretary for Housing.

BILLING CODE 4210-72-P

[FR Doc. 04-10716 Filed 5-11-04; 8:45 am]

BILLING CODE 4210-72-C